DEPARTMENT OF HOMELAND SECURITY

Federal Emergency Management Agency

[FEMA-1453-DR]

Ohio; Amendment No. 3 to Notice of a Major Disaster Declaration

AGENCY: Federal Emergency Management Agency, Emergency Preparedness and Response Directorate, Department of Homeland Security.

ACTION: Notice.

SUMMARY: This notice amends the notice of a major disaster declaration for the State of Ohio, (FEMA-1453-DR), dated March 14, 2003, and related determinations.

EFFECTIVE DATE: April 3, 2003.

FOR FURTHER INFORMATION CONTACT: Magda Ruiz, Recovery Division, Federal Emergency Management Agency, Washington, DC 20472, (202) 646-2705.

SUPPLEMENTARY INFORMATION: The notice of a major disaster declaration for the State of Ohio is hereby amended to include the following areas among those areas determined to have been adversely affected by the catastrophe declared a major disaster by the President in his declaration of March 14, 2003: Darke, Delaware, Harrison, Hocking, Licking, Montgomery, Perry, Union, and Washington Counties for emergency protective measures (Category B) under the Public Assistance program for a period of 48 hours.

Vinton County for emergency protective measures (Category B) for a period of 48 hours (already designated for Public Assistance).

Athens, Belmont, Morgan, and Noble Counties for Public Assistance and emergency protective measures (Category B) for a period of 48 hours.

Monroe County for Public Assistance (already designated for emergency protective measures (Category B) for a period of 48 hours).

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.556, Fire Management Assistance; 83.558, Individual and Household Housing; 83.559, Individual and Household Disaster Housing Operations; 83.560 Individual and Household Program-Other Needs, 83.544, Public Assistance Grants; 83.548, Hazard Mitigation Grant Program.)
Michael D. Brown,
Acting Under Secretary, Emergency Preparedness and Response.

[FR Doc. 03-9188 Filed 4-14-03; 8:45 am]

BILLING CODE 6718-02-P